DEPARTMENT OF INTERIOR

Bureau of Land Management

Emergency Closure Notice

AGENCY: Bureau of Land Management, Folsom Field Office, California, Interior.

ACTION: Emergency closure of public lands in Yuba County, California.

SUMMARY: Notice is hereby given that two parcels of public land are temporarily closed to all motorized vehicle use. The purpose of this emergency order is to protect federally-listed anadromous fish species, specifically Central Valley fall-run chinook salmon (federal candidate species), Central Valley spring-run chinook salmon (federally threatened), and Central Valley steelhead (federally threatened).

The closed area, approximately 160 acres, is described as follows: All public lands in T16N, R5E, Section 22 and lands in T16N, R5E, Section 27, Lots 7 and 8, and the riverbed between the above stated lands.

Closure signs will be posted at main entry points to these areas. Maps of the closure area may be obtained from the Folsom Field Office, 63 Natoma Street, Folsom, CA 95630. Phone: (916) 985-4474.

DATES: The closure will take effect immediately, and will remain in effect for less than six months until the Sierra Resource Management Plan and supplemental rules relevant to this closure are finalized.

FOR FURTHER INFORMATION CONTACT: Bill Haigh, Bureau of Land Management, 63 Natoma Street, Folsom, CA 95630. Phone: (916) 985-4474.

Discussion of the Rules: Under the authority of 43 CFR 8364.1(a) and 8341.2, the Bureau of Land Management will enforce the following rules on public lands within the closed area: One must not enter the closed area with a motorized vehicle.

Exemptions: This closure order does not apply to: (1) Any federal, state or local government law enforcement officer engaged in enforcing this closure order or member of an organized rescue or fire fighting force while in the performance of an official duty; and (2) Any BLM employee, agent, or contractor while in the performance of an official duty, or any person expressly authorized by BLM.

SUPPLEMENTARY INFORMATION: BLM is implementing this action on 160 acres of public land in Yuba County, California. BLM has observed motorized vehicles entering the river over salmon and steelhead spawning redds. Salmon and steelhead spawning in this reach of the river are all listed in some capacity by the U.S. Fish and Wildlife Service. This reach of the river is also designated as critical habitat for these species by the U.S. Fish and Wildlife Service. Motorized use is adversely impacting spawning habitat and redds for these anadromous fish species. Consequently, this area is being closed to motorized use.

Penalties: The authority for this closure is found under section 303(a) of the Federal Land Policy and Management Act of 1976 (43 U.S. 1733(a), 43 CFR 8341.2, and 43 CFR 8364.1(a)). Any person who violates this closure may be tried before a United States Magistrate and fined no more than $1,000 or imprisoned for no more than 12 months or both. Such violations may also be subject to the enhanced fines provided for by 18 U.S.C. 3571.

Dated: November 15, 2007.
William S. Haigh,
Manager, Folsom Field Office.

[FR Doc. 07-5952 Filed 12-6-07; 8:45 am]

BILLING CODE 4310-40-P